DEPARTMENT OF AGRICULTURE

Forest Service

Bighorn National Forest; Wyoming; Woodrock Project EIS.

AGENCY: Forest Service, USDA.

ACTION: Notice of intent to prepare an environmental impact statement.

SUMMARY: The USDA, Forest Service, will prepare an Environmental Impact Statement (EIS) to disclose the environmental effects of travel management, timber harvest, fuels reduction, and watershed rehabilitation primarily in the South Tongue Watershed on the Tongue Ranger District of the Bighorn National Forest, in Sheridan County, Wyoming. The project area is located approximately 25 air miles southwest of Sheridan, Wyoming.

DATES: Written comments concerning the scope of the analysis, issues, the alternatives, and evaluation of alternatives should be received within 45 days of the date of publication of this notice in the Federal Register. The Forest Service estimates the Draft EIS will be filed in June of 2003. The Final EIS will be filed within 3 months of that date, approximately September of 2004. A draft document will be provided upon request. Scoping comments previously submitted for this project do not need to be submitted again.

ADDRESSES: Send written comments to Craig Yancey, District Ranger, Tounge District, Bighorn National Forest, 2013 Eastside 2nd Street, Sheridan, WY, 82801. Send electronic comments to Mailroom_R2_Bighorn@notes.fs.fed.us; include Woodrock Project as the subject.

FOR FURTHER INFORMATION CONTACT: Scott Hill, EIS Team Leader Woodrock Project, Bighorn National Forest, 2013 Eastside 2nd Street, Sheridan, WY, 82801, Electronic mail: shill02@fs.fed.us, phone: (307) 674-2649.

SUPPLEMENTARY INFORMATION:

Purpose and Need for Action

The Woodrock Project is being proposed to implement the Forest Plan. The project includes: implementation of Forest Plan allocations, implementing past forest management decisions and silvicultural prescriptions, improve watershed conditions, improve travel management and existing road systems, and improve or maintain the forested vegetation within the forest plan standard and guidelines and other legal requirements.

Proposed Action

The Forest Service proposes to: improve diversity of forested vegetation by mimicking scale and intensity of natural disturbance patterns within the project area; reduce impacts to watershed conditions from roads and trails by changing travel management restrictions, reconstructing, restricting travel, or decommissioning existing roads where problems cannot be mitigated; on roads and trails; harden, relocate, or close dispersed campsites to meet Forest Plan direction; timber harvest of stands to produce wood fiber and reduce the spread of forest pests on approximately 1,800 acres.

Responsible Official

The responsible official for this decision is Bill Bass, Forest Supervisor, Bighorn National Forest, 2013 Eastside 2nd Street, Sheridan, WY 82801.

Nature of Decision To Be Made

The Forest Supervisor will decide: if changes should be made to the transportation system within the area; whether and where timber harvest should be implemented; if timber harvest occurs, what silvicultural systems and size of openings would be created; what noncommercial vegetation and fuels treatments should be taken; and what watershed improvements should be undertaken. He will decide when, or if, any management activities would take place, what mitigation measures would be implemented to address concerns, and whether the action requires amendment(s) to the Bighorn Forest Plan.

Scoping Process

The Woodrock project was initially developed as an Environmental Assessment. Scoping notices were sent on September 2, 1997 inviting comments from Federal, State and local agencies, special interest groups and individuals who had expressed interest in National Forest projects in the area. Scoping notices were sent to newspapers across northern Wyoming. A field trip was held on September 30, 1997. A public meeting addressing travel management in the Woodrock area was held at Bear Lodge on October 7, 2000. The project has been listed in the Quarterly Schedule of Proposed Actions from 1997 to the present.

Preliminary Issues

Issues associated with this project that have been identified during scoping and development of proposed action include the impacts of the proposed activities on wildlife and plant species and their habitat and effects of travel management on water quality and riparian habitat.

Comment Requested

A 45-day review period for comments on the Draft EIS will be provided. Comments received will be considered and included in documentation of the Final EIS. The public is encouraged to take part in the process and to visit with Forest Service officials at any time during the analysis and prior to the decision. The Forest Service has sought and will continue to seek information, comments and assistance from Federal, State and local agencies and other individuals or organizations who may be interested in, or affected by, the proposed action. The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Due to these court rulings, it is very important that those interested in this proposed action participate by the close of the 45 day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection (Authority: 40 CFR 1501.7 and 1508.22; Forest Service Handbook 1909.15, Section 21).

Dated: March 25, 2003.
Ronald H. Stellingwerf,
Acting Forest Supervisor.

[FR Doc. 03-8042 Filed 4-3-03; 8:45 am]

BILLING CODE 3410-11-P